DEPARTMENT OF COMMERCE

National Oceanic and Atmospheric Administration

50 CFR Part 648

[Docket No. 000119014-0137-02; I.D. 080700C]

Fisheries of the Northeastern United States; Summer Flounder, Scup, and Black Sea Bass Fisheries; Adjustments to the 2000 Summer Flounder, Scup and Black Sea Bass Commercial Quotas

AGENCY: National Marine Fisheries Service (NMFS), National Oceanic and Atmospheric Administration (NOAA), Commerce.

ACTION: Commercial quota adjustment for 2000.

SUMMARY: NMFS issues a listing of additional adjustments to the 2000 commercial summer flounder, scup, and black sea bass quotas. This action complies with the regulations that implement the Fishery Management Plan for the Summer Flounder, Scup, and Black Sea Bass Fisheries (FMP), which specifies that summer flounder landings in excess of a given state's individual commercial quota be deducted from that state's quota for the following year. Similarly, for scup and black sea bass, the FMP specifies that landings in excess of a quota for a given quota period (scup) or quarter (black sea bass) be deducted from the same quota period or quarter in the following year. The intent of this action is to continue the rate of rebuilding of summer flounder, scup and black sea bass in 2000 as described in the FMP's objectives, while also taking into account 1999 overages of state, period or quarterly quotas.

DATES: Effective August 18, 2000, through December 31, 2000.

FOR FURTHER INFORMATION CONTACT: Richard A. Pearson, Fisheries Policy Analyst, (978) 281-9279.

SUPPLEMENTARY INFORMATION:

Background

NMFS published a document in the Federal Register on May 24, 2000 (65 FR 33486), announcing final specifications and preliminary adjustments to the 2000 summer flounder, scup and black sea bass commercial quotas. Additional adjustment is necessary through this notification due to the receipt of late 1999 landings data. The adjustment in this notification may not be final. Additional data including late landings reported from either federally permitted dealers or state statistical agencies reporting landings by non-federally permitted dealers could be received from the states that would further alter the quotas.

Summer Flounder

The 1999 quota, preliminary 1999 landings, and the resulting 1999 overages for all states for summer flounder are given in table 1. The following states recorded landings of summer flounder different from those reported in the May 24, 2000, Federal Register: MA—+219 lb (99 kg), CT—+13,172 lb (5,975 kg), NY—+10,616 lb (4,815 kg), NJ—+19,780 lb (8,972 kg), DE—-59 lb (27 kg), MD—+35,492 lb (16,099 kg), and VA—+65,279 lb (29,610 kg).

The resulting adjusted 2000 commercial quota for each state is given in Table 2, taking into account both the 1999 quota overages published in the May 24, 2000, Federal Register and the revised 1999 landings noted here.

Table 1. Summer Flounder Preliminary 1999 Landings and Overages by State
State | 1999 Quota: Lb | 1999 Quota: Kg | Preliminary 1999 Landings: Lb | Preliminary 1999 Landings: Kg | 1999 Overage: Lb | 1999 Overage: Kg ¹
ME | 4,450 | 2,018 | 5,778 | 2,621 | 1,328 | 602
NH | 51 | 23 | 0 | 0 | 0 | 0
MA | 757,842 | 343,751 | 805,183 | 365,224 | 47,341 | 21,474
RI | 1,742,583 | 790,422 | 1,636,528 | 742,317 | 0 | 0
CT | 238,516 | 108,189 | 245,219 | 111,229 | 6,703 | 3,040
NY | 860,006 | 390,099 | 803,903 | 364,644 | 0 | 0
NJ | 1,853,926 | 840,927 | 1,917,732 | 869,868 | 63,806 | 28,942
DE | (25,739)² | (11,675)² | 7,917 | 3,591 | (33,656)² | (15,266)²
MD | 202,354 | 91,786 | 234,358 | 106,303 | 32,004 | 14,517
VA | 2,120,696 | 961,932 | 2,195,832 | 996,012 | 75,136 | 34,081
NC | 2,974,589 | 1,349,274 | 2,800,749 | 1,270,398 | 0 | 0
Total³ | 10,755,013 | 4,866,746 | 10,653,199 | 4,832,209 |  |
¹ Kilograms are as converted from pounds, and may not necessarily add due to rounding.
² Parentheses indicate a negative number.
³ Total quota is the sum of all states having allocation. A state with a negative number has an allocation of zero (0). Total quota and total landings do not equal overage because they reflect positive quota balances in several states.

Table 2. Summer Flounder Preliminary Adjusted 2000 Quotas by State
State | 2000 Initial Quota: Lb | 2000 Initial Quota: Kg ¹ | 2000 Adjusted Quota: Lb | 2000 Adjusted Quota: Kg¹
ME | 5,284 | 2,397 | 3,956 | 1,794
NH | 51 | 23 | 51 | 23
MA | 757,834 | 343,748 | 710,493 | 322,274
RI | 1,742,566 | 790,041 | 1,742,566 | 790,415
CT | 250,788 | 113,756 | 244,085 | 110,715
NY | 849,672 | 385,405 | 849,672 | 385,404
NJ | 1,858,346 | 842,931 | 1,794,540 | 813,990
DE | 1,977 | 897 | (31,679)² | (14,369)²
MD | 226,568 | 102,770 | 194,564 | 88,253
VA | 2,368,546 | 1,074,354 | 2,293,410 | 1,040,273
NC | 3,049,560 | 1,383,257 | 3,049,560 | 1,383,257
Total | 11,109,214 | 5,039,055 | 10,882,897 | 4,936,398
¹ Kilograms are as converted from pounds, and may not necessarily add due to rounding.
² Parentheses indicate a negative number.
³ Total quota is the sum of all states having allocation. A state with a negative number has an allocation of zero (0).

Scup

The 1999 quotas (by period), preliminary 1999 landings (by period), and resulting overages for scup for all quota periods are given in Table 3. Changes in 1999 landings from those reported in the May 24, 2000, Federal Register are as follows: Winter I—-167 lb (76 kg), Summer—+47,750 lb (21,659 kg), Winter II—+36,627 lb (16,614 kg). Note that the 1999 overage and 2000 quota for the scup Winter I period was incorrectly calculated in the May 24, 2000, Federal Register. The 1999 overage should have been 106,074 lb (48,069 kg) rather than 106,174 lb (48,114 kg), and the resulting 2000 adjusted quota should have been 1,037,086 lb (470,422 kg) rather than 1,037,986 lb (470,369 kg). Therefore, the 2000 adjusted quota for scup for Winter I period should now be 1,037,086 lb (470,422 kg) plus 167 lb (76 kg) = 1,037,253 lb (470,490 kg).

The resulting adjusted 2000 commercial quota for each quota period is given in Table 4.

Table 3. Scup Preliminary 1999 Landings and Overages By Period
Period | 1999 Quota: Lb | 1999 Quota: Kg ¹ | Preliminary 1999 Landings: Lb | Preliminary 1999 Landings: Kg ¹ | 1999 Overage: Lb | 1999 Overage: Kg ¹
Winter I | 1,143,160 | 518,529 | 1,249,067 | 566,567 | 105,907 | 48,039
Summer | 987,055 | 447,721 | 1,336,232 | 606,105 | 349,177 | 158,384
Winter II | 403,945 | 183,226 | 737,534 | 334,539 | 333,589 | 151,313
Total | 2,534,160 | 1,149,476 | 3,322,833 | 1,507,211 |  |
¹ Kilograms are as converted from pounds, and may not necessarily add due to rounding.

Table 4. Scup Preliminary Adjusted 2000 Quotas by Period
Period | 2000 Initial Quota: Lb | 2000 Initial Quota: Kg ¹ | 2000 Adjusted Quota: Lb | 2000 Adjusted Quota: Kg ¹
Winter I | 1,143,160 | 518,529 | 1,037,253 | 470,490
Summer | 987,055 | 447,721 | 637,878 | 289,337
Winter II | 403,945 | 183,226 | 70,356 | 31,913
Total | 2,534,160 | 1,149,476 | 1,745,487 | 791,740
¹ Kilograms are as converted from pounds, and may not necessarily add due to rounding.

Black Sea Bass

The 1999 quotas (by quarter), preliminary 1999 landings (by quarter), and resulting overages for black sea bass for all quarters are given in Table 5. Changes in landings from those reported in the May 24, 2000, Federal Register are as follows: Quarter 1—+7,753 lb (3,571 kg), Quarter 2—+30,837 lb (13,988 kg), Quarter 3—+52,464 lb (23,798 kg), and Quarter 4—+89,509 lb (40,601 kg).

Table 5. Black Sea Bass Preliminary 1999 Landings and Overages by Quarter
Quarter | 1999 Quota¹: Lb | 1999 Quota¹: Kg ² | Preliminary 1999 Landings: Lb | Preliminary 1999 Landings: Kg ² | 1999 Overage: Lb | 1999 Overage: Kg ²
1. (Jan-Mar) | 1,168,860 | 530,186 | 715,988 | 324,767 |  |
2. (Apr-Jun) | 885,115 | 401,481 | 1,062,155 | 481,785 | 177,040 | 80,304
3. (Jul-Sep) | 372,983 | 169,182 | 525,243 | 238,246 | 152,260 | 69,064
4. (Oct-Dec) | 598,043 | 271,268 | 745,373 | 338,095 | 147,330 | 66,828
Total | 3,025,000 | 1,372,117 | 3,048,759 | 1,382,893 |  |
¹ Reflects quotas as published on August 26, 1999 (64 FR 46596).
² Kilograms are as converted from pounds, and may not necessarily add due to rounding.

Table 6. Black Sea Bass Preliminary Adjusted 2000 Quotas by Quarter
Quarter | 2000 Initial Quota: Lb | 2000 Initial Quota: Kg ¹ | 2000 Adjusted Quota: Lb | 2000 Adjusted Quota: Kg ¹
1. (Jan-Mar) | 1,168,760 | 530,141 | 1,168,760 | 530,141
2. (Apr-Jun) | 885,040 | 401,447 | 708,000 | 321,143
3. (Jul-Sep) | 372,951 | 169,168 | 220,691 | 100,104
4. (Oct-Dec) | 597,991 | 271,244 | 450,661 | 204,416
Total | 3,024,742 | 1,372,000 | 2,548,112 | 1,155,804
¹ Kilograms are as converted from pounds, and may not necessarily add due to rounding.

Classification

This action is required by 50 CFR part 648 and is exempt from review under Executive Order 12866.

Authority: 16 U.S.C. 1801 et seq.

Dated: August 15, 2000.
Bruce C. Morehead,
Acting Director, Office of Sustainable Fisheries, National Marine Fisheries Services.

[FR Doc. 00-21100 Filed 8-17-00; 8:45 am]

BILLING CODE 3510-22-F